DEPARTMENT OF THE INTERIOR

National Park Service

Notice of Intent to Repatriate Cultural Items: San Diego Archaeological Center, San Diego, CA

AGENCY: National Park Service, Interior.

ACTION: Notice.

Notice is here given in accordance with the Native American Graves Protection and Repatriation Act (NAGPRA), 25 U.S.C. 3005, of the intent to repatriate cultural items in the possession of the San Diego Archaeological Center, San Diego, CA, that meet the definitions of “unassociated funerary objects” or “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1973 and 1974, cultural items were removed from archeological site CA-SDI-681 in the County of San Diego, CA, as part of an archeological excavation performed by an avocational archeological group. In 2006, the collection was accessioned by the San Diego Archaeological Center, and assessed for objects eligible for repatriation in accordance with NAGPRA. The 378 cultural items are 1 piece of hematite, 1 piece of ochre, 16 pieces of ceramic pipe fragments, 1 ceramic effigy, 1 ceramic effigy fragment, 2 quartz crystals, and 356 shell disc beads.

Site CA-SDI-681 is located in the unincorporated City of Bonsall about 11 miles northeast of the San Luis Rey River. This site falls within traditional Luiseno territory. Hematite, ochre, ceramic pipes, ceramic effigies and crystals are known to be used by the Luiseno Nation in sacred rites. Therefore, 22 of the cultural items removed from site CA-SDI-681 are considered sacred objects. Disc shell beads are known to be used as funerary objects. Therefore, the 356 shell disc beads removed from site CA-SDI-681 are considered unassociated funerary objects.

In 1981, cultural items were removed from CA-SDI-8629 and CA-SDI-8639H near Warner Springs, in San Diego County, CA, as part of an archeological excavation performed in compliance with the California Environmental Quality Act (CEQA). On May 10, 2006, the collection was accessioned by the San Diego Archaeological Center, and assessed for objects eligible for repatriation in accordance with NAGPRA. The two cultural items are one quartz crystal and one ceramic pipe fragment.

Cyrstals and pipes are known to be used the Luiseno Nation in sacred rites, and are considered sacred objects.

Sites CA-SDI-8629 and CA-SDI-8639H are located on the U.S. Geographical Survey topographic map of Warner Springs. The Warner Springs Ranch is located in the eastern part of San Diego County. These sites fall within traditional Cupeno territory and are considered to be part of the ethnohistoric village of Cupa. The reporting archeologist determined that artifacts from the test units gave a clear impression that the deposits relate to Late Prehistoric and historic times. Descendants of the Cupeno Nation (Cupa, Kuupangaxwichem) reside on the Pala reservation. The Pala reservation is also home to the Pala Band of Luiseno Mission Indians of the Pala Reservation, California, which is a member of the Luiseno Nation.

The Luiseno Nation is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

Officials of the San Diego Archaeological Center have determined that, pursuant to 25 U.S.C. 3001 (3)(B), the 356 cultural items described above are reasonably believed to have been placed with or near individual human remains at the time of death or later as part of the death rite or ceremony and are believed, by a preponderance of the evidence, to have been removed from a specific burial site of a Native American individual. Officials of the San Diego Archaeological Center also have determined that, pursuant to 25 U.S.C. 3001 (3)(C), the 24 cultural items described above are specific ceremonial objects needed by traditional Native American religious leaders for the practice of traditional Native American religions by their present-day adherents. Lastly, officials of the San Diego Archaeological Center have determined that, pursuant to 25 U.S.C. 3001 (2), there is a relationship of shared group identity that can be reasonably traced between the sacred objects and unassociated funerary objects to the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

Representatives of any other Indian tribe that believes itself to be culturally affiliated with the unassociated funerary objects and/or sacred objects should contact Cindy Stankowski, San Diego Archaeological Center, 16666 San Pasqual Valley Road, Escondido, CA 92027-7001, telephone (760) 291-0370, before November 10, 2008. Repatriation of the unassociated funerary objects and/or sacred objects to the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group, may proceed after that date if no additional claimants come forward.

The San Diego Archaeological Center is responsible for notifying the Cupeno (Cupa, Kuupangaxwichem) Nation of the Pala Reservation, California; La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California; and San Luis Rey Band of Mission Indians, a non-federally recognized Indian group, that this notice has been published.

Dated: September 12, 2008
Sherry Hutt,
Manager, National NAGPRA Program.

[FR Doc. E8-23947 Filed 10-8-08; 8:45 am]

BILLING CODE 4312-50-S